DEPARTMENT OF HOMELAND SECURITY

Coast Guard

33 CFR Part 165

[Docket No. USCG-2023-0412]

Safety Zone; Annual Fireworks Displays and Other Events in the Eighth Coast Guard District Requiring Safety Zones—St. John the Baptist Independence Day Celebration

AGENCY: Coast Guard, DHS.

ACTION: Notification of enforcement of regulation.

SUMMARY: The Coast Guard will enforce a temporary safety zone for the St. John the Baptist Independence Day Celebration fireworks display located on the navigable waters of the Lower Mississippi River between mile marker (MM) 137.5 and MM 138.5 in vicinity of Reserve, Louisiana. This action is needed to provide for the safety of life on these navigable waterways during the event. During the enforcement periods, entry into this zone is prohibited unless authorized by the Captain of the Port or a designated representative. Persons or vessels desiring to enter into or passage through the zone must request permission from the Captain of the Port or a designated representative. If permission is granted, all persons and vessels shall comply with the instructions of the Captain of the Port or designated representative. Designated representatives include commissioned, warrant, and petty officers of the U.S. Coast Guard.

DATES: The regulations in 33 CFR part 165.801, Table 5, line 2 will be enforced from 8:30 through 9:30 p.m. on July 3, 2023.

FOR FURTHER INFORMATION CONTACT: If you have questions about this notification of enforcement, call or email Lieutenant Commander William Stewart, Sector New Orleans, U.S. Coast Guard; telephone 504-365-2246, email William.A.Stewart@uscg.mil.

SUPPLEMENTARY INFORMATION: The Coast Guard will enforce a temporary safety zone in 33 CFR 165.801, Table 5, line 2 for the St. John the Baptist Independence Day Celebration event. This regulation will be enforced from 8:30 p.m. through 9:30 p.m. on July 3, 2023. This action is being taken to provide for the safety of life on navigable waterways during this event. Our regulation for annual fireworks displays and other events in the Eighth Coast Guard District requiring safety zones, 33 CFR 165.801, Table 5, line 2, specifies the location of the safety zone between mile marker (MM) 137.5 and MM 138.5 on the Lower Mississippi River near Reserve, Louisiana. During the enforcement period, entry into this zone is prohibited unless authorized by the Captain of the Port or a designated representative. Persons or vessels desiring to enter into or passage through the zone must request permission from the Captain of the Port or a designated representative. If permission is granted, all persons and vessels shall comply with the instructions of the Captain of the Port or designated representative. Designated representatives include commissioned, warrant, and petty officers of the U.S. Coast Guard.

In addition to this notification of enforcement in the Federal Register, the Coast Guard plans to provide notification of this enforcement period via a Marine Safety Information Bulletin and/or Broadcast Notice to Mariners.

Dated: May 25, 2023.
K.K. Denning,
Captain, U.S. Coast Guard, Captain of the Port Sector New Orleans.

[FR Doc. 2023-12653 Filed 6-13-23; 8:45 am]

BILLING CODE 9110-04-P